DEPARTMENT OF HOUSING AND URBAN DEVELOPMENT

[Docket No. FR-6418-N-01]

Announcement of Funding Awards

AGENCY: Office of Chief Financial Officer, HUD.

ACTION: Notice.

SUMMARY: In accordance with the Department of Housing and Urban Development Reform Act of 1989, this announcement notifies the public of funding decisions made by the Department in competitions for funding under the Notices of Funding Opportunity (NOFOs) and Notices for the following program(s): FY 2022 Housing Opportunities for Persons with AIDS (HOPWA) Program, FY2021 Youth Homeless Demonstration Program, and FY 2021 Continuum of Care Grants.

FOR FURTHER INFORMATION CONTACT: Dorthera Yorkshire, Director, Grants Management and Oversight, Office of the Chief Financial Officer (Systems), telephone (202) 402-4226; Grants Management and Oversight; email AskGMO@hud.gov or the contact person listed in each appendix. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD posted FY 2022 Housing Opportunities for Persons with AIDS (HOPWA) Program on grants.gov June 13, 2022, (CPD-22-08). The competition closed on August 1, 2022. HUD rated and selected for funding based on selection criteria contained in the Notice. This competition awarded $22,606,869 to 21 recipients to provide permanent supportive housing (PSH) as the primary grant activity to HOPWA-eligible clients. For the purposes of the Notice, “permanent housing” means housing in which the eligible person has a continuous legal right to remain in the unit established by a lease or legally binding occupancy agreement.

HUD posted FY 2021Youth Homeless Demonstration Program on grants.gov March 24, 2022, (FR-6500-N-35). The competition closed on June 28, 2022. HUD rated and selected for funding based on selection criteria contained in the NOFO. This competition awarded $83,699,223 to 17 recipients to support selected communities in the development and implementation of a coordinated community approach to preventing and ending youth homelessness and sharing that experience with and mobilizing communities around the country toward the same end. The population to be served by this demonstration program is youth experiencing homelessness, including unaccompanied and pregnant or parenting youth. The demonstration has seven primary objectives: build national momentum, promote equity in the delivery and outcomes of homeless assistance, highlight the importance of youth leadership, evaluate the coordinated community approach, expand capacity, evaluate performance measures, and establish a framework for Federal program and TA collaboration.

HUD posted FY 2021 Continuum of Care Grants Program on grants.gov August 18, 2021, (FR-6500-N-25). The competition closed on November 16, 2021. HUD rated and selected for funding based on selection criteria contained in the NOFO. This competition awarded $2,646,471,519 to 7047 recipients to promote a community-wide commitment to the goal of ending homelessness; to provide funding for efforts by nonprofit providers, states, Indian Tribes or tribally designated housing entities (as defined in section 4 of the Native American Housing Assistance and Self-Determination Act of 1996 (25 U.S.C. 4103) (TDHEs)), and local governments to quickly rehouse homeless individuals, families, persons fleeing domestic violence, dating violence, sexual assault, and stalking, and youth while minimizing the trauma and dislocation caused by homelessness; to promote access to and effective utilization of mainstream programs by homeless individuals and families; and to optimize self-sufficiency among those experiencing homelessness.

In accordance with section 102(a)(4)(C) of the Department of Housing and Urban Development Reform Act of 1989 (103 Stat. 1987, 42 U.S.C. 3545(a)(4)(C)), the Department is publishing the awardees and the amounts of the awards in Appendix A-C of this document.

Dated: May 31, 2024.
Dorthera Yorkshire,
Director, Grants Management and Oversight, Office of the Chief Financial Officer.

BILLING CODE 4210-67-P

[FR Doc. 2024-12287 Filed 6-13-24; 8:45 am]

BILLING CODE 4210-67-C